DEPARTMENT OF COMMERCE

International Trade Administration

Meeting of the United States Travel and Tourism Advisory Board

AGENCY: International Trade Administration, U.S. Department of Commerce.

ACTION: Notice of an open meeting.

SUMMARY: The United States Travel and Tourism Advisory Board (Board) will hold an open meeting on Monday, June 1, 2015. The Board was re-chartered in August 2013, to advise the Secretary of Commerce on matters relating to the travel and tourism industry.

During this meeting, the Board will deliberate and potentially adopt a letter to the Secretary outlining the Board's priority recommendations. Board members will also hear an update from the working group formed to provide advice on the achievement of the national goal of improving the international arrivals and entry process for travelers to the United States. The agenda may change to accommodate Board business. The final agenda will be posted on the Department of Commerce Web site for the Board at http://trade.gov/ttab, at least one week in advance of the meeting.

DATES: Monday, June 1, 2015, tentatively scheduled for 10:00 a.m.-12:00 p.m. and open for public comments. The exact start and end times may change to accommodate participants' schedules; please check the Web site for the final agenda one week in advance of the meeting.

The deadline for members of the public to register, including requests to make comments during the meetings and for auxiliary aids, or to submit written comments for dissemination prior to the meeting, is 5 p.m. EDT on May 25, 2015.

ADDRESSES: Orange County Convention Center, 9899 International Drive, Orlando, Florida 32819. Guests are requested to register one week in advance by sending an email to Niara.Phillips@trade.gov.

FOR FURTHER INFORMATION CONTACT: Niara Phillips, the United States Travel and Tourism Advisory Board, Room 4043, 1401 Constitution Avenue NW., Washington, DC 20230, telephone: 202-482-4501, email: niara.phillips@trade.gov.

SUPPLEMENTARY INFORMATION:

Background: The Board advises the Secretary of Commerce on matters relating to the U.S. travel and tourism industry.

Public Participation: The meeting will be open to the public. All guests are required to register in advance by the deadline identified under the DATES caption, and will receive a copy of the draft letter to be deliberated upon registering. Seating is limited and will be on a first come, first served basis. Requests for sign language interpretation or other auxiliary aids must be submitted by the registration deadline. Last minute requests will be accepted, but may be impossible to fill.

There will be 15 minutes of time allotted for oral comments from members of the public joining the meeting. To accommodate as many speakers as possible, the time for public comments will be limited to three (3) minutes per person. Individuals wishing to reserve speaking time during the meeting must submit a request at the time of registration along with a brief statement of the general nature of the comments, as well as the name and address of the proposed speaker. If the number of registrants requesting to make statements is greater than can be reasonably accommodated during the meeting, the International Trade Administration may conduct a lottery to determine the speakers. Speakers are requested to bring at least 25 copies of their oral comments for distribution to the members of the Board and to the public at the meeting. In addition, any member of the public may submit pertinent written comments concerning the Board's affairs at any time before or after the meeting. Comments may be submitted to Niara Phillips at the contact information indicated above. To be considered during the meeting, comments must be received no later than 5:00 p.m. EDT on May 25, 2015, to ensure transmission to the Board prior to the meeting. Comments received after that date and time will be distributed to the members but may not be considered on the meeting. Copies of Board meeting minutes will be available within 90 days of the meeting.

Dated: May 7, 2015.
Niara Phillips,
Executive Secretary, United States Travel and Tourism Advisory Board.

[FR Doc. 2015-11501 Filed 5-12-15; 8:45 am]

BILLING CODE 3510-DS-P